DEPARTMENT OF THE INTERIOR

Office of Surface Mining Reclamation and Enforcement

Excess Spoil Minimization—Stream Buffer Zones Draft Environmental Impact Statement, OSM-EIS-34

AGENCY: Office of Surface Mining Reclamation and Enforcement, Interior.

ACTION: Notice of availability of a draft environmental impact statement.

SUMMARY: We, the Office of Surface Mining Reclamation and Enforcement (OSM), are announcing the availability of a draft environmental impact statement (DEIS). The DEIS analyzes the potential impacts of a proposed rule concerning excess spoil, coal mine waste, and stream buffer zones. The proposed rule, which is being published for review and comment in this edition of the Federal Register, would, if implemented, revise the permanent program regulations implementing the Surface Mining Control and Reclamation Act of 1977.

DATES: Electronic or written comments must be received on or before October 23, 2007.

ADDRESSES: You may submit comments by any of the following methods:

• Federal eRulemaking Portal: http://www.regulations.gov. The DEIS is listed under the agency name “OFFICE OF SURFACE MINING RECLAMATION AND ENFORCEMENT.”

• Mail/Hand-Delivery/Courier to: David Hartos, Office of Surface Mining Reclamation and Enforcement, Appalachian Region, 3 Parkway Center, Pittsburgh, PA 15220. Please identify the comments as pertaining to OSM-EIS-34.

If you wish to testify at a public hearing, you must submit your request by contacting the person listed under the heading FOR FURTHER INFORMATION CONTACT before 4 p.m., Eastern Time, on September 24, 2007. We will hold a public hearing only if there is sufficient interest. Hearing arrangements, dates and times, if any, will be announced in a subsequent Federal Register notice. If you are a disabled individual who needs reasonable accommodation to attend a public hearing, please make this known to the person listed under FOR FURTHER INFORMATION CONTACT.

FOR FURTHER INFORMATION CONTACT: David Hartos, Office of Surface Mining Reclamation and Enforcement, 3 Parkway Center, Pittsburgh, PA 15220; Telephone: 412-937-2909; E-mail: dhartos@osmre.gov.

SUPPLEMENTARY INFORMATION: The public is invited to provide written comments on the DEIS during the 60-day comment period. Please see ADDRESSES and DATES for more information.

Comment Procedures

Your written comments should be specific and include explanations in support of your recommendations. We will make every attempt to log all comments into the docket for the DEIS, but comments delivered to an address other than the those listed above or received after the close of the comment period may not be logged in and considered.

Before including your address, phone number, e-mail address, or other personal identifying information in your comment, you should be aware that your entire comment—including your personal identifying information—may be made publicly available at any time. While you can ask us in your comment to withhold your personal identifying information from public review, we cannot guarantee that we will be able to do so.

Public hearings on the draft environmental impact statement will be held if there is sufficient interest. You may request a public hearing on the DEIS by contacting the person listed under FOR FURTHER INFORMATION CONTACT. Requests for public hearings must be received within 30 days of the publication date of this announcement. See DATES.

Finding a Copy of the DEIS

The DEIS is being mailed to known interested parties and can be viewed and downloaded from the internet at http://www.regulations.gov. At that internet address, the document is listed under “Office of Surface Mining Reclamation and Enforcement.” The DEIS may also be inspected at the OSM headquarters in Washington and regional offices in Pittsburgh, Alton, and Denver, and in selective local libraries in eastern Kentucky, eastern Tennessee, southwestern Virginia, and southern West Virginia. The addresses follow.

OSM Headquarters, Administrative Record, Room 101, 1951 Constitution Avenue, NW., Washington, DC 20240; Phone: (202) 208-2823.

OSM Appalachian Region, 3 Parkway Center, Pittsburgh, PA 15220; Phone: (412) 937-2909.

OSM Mid-Continent Region, Alton Federal Bldg., 501 Belle Street, Room 216, Alton, IL 62002; Phone: (618) 463-6460.

OSM Western Region, 1999 Broadway, Suite 3320, Denver, CO 80201; Phone: (303) 844-1401.

The DEIS has also been sent to the following libraries in the central Appalachian coal fields:

Kentucky

Middlesboro-Bell County Public Library, Middlesboro, KY.

Boyd County Public Library, Ashland, KY.

Breathitt County Public Library, Jackson, KY.

Clark County Public Library, Winchester, KY.

Clay County Public Library, Manchester, KY.

Elliott County Public Library, Sandy Hook, KY.

Floyd County Public Library, Prestonsburg, KY.

Greenup County Public Library, Greenup, KY.

Harlan County Public Library, Harlan, KY.

Jackson County Public Library, McKee, KY.

Johnson County Public Library, Paintsville, KY.

Knott County Public Library, Hindman, KY.

Knox County Public Library, Barbourville, KY.

Laurel County Public Library, London, KY.

Lawrence County Public Library, Louisa, KY.

Lee County Public Library, Beattyville, KY.

Leslie County Public Library, Hyden, KY.

Martin County Public Library, Inez, KY.

McCreary County Public Library, Whitley City, KY.

Menifee County Public Library, Frenchburg, KY.

John F. Kennedy Memorial Public Library, West Liberty, KY.

Owsley County Public Library, Booneville, KY.

Perry County Public Library, Hazard, KY.

Pike County Public Library District, Pikeville, KY.

Powell County Public Library, Stanton, KY.

Pulaski County Public Library, Somerset, KY.

Rock Castle County Public Library, Mount Vernon, KY.

Wayne County Public Library, Monticello, KY.

Whitley County Public Library, Williamsburg, KY.

Wolfe County Public Library, Campton, KY.

Tennessee

Briceville Public Library, Briceville, TN.

Clinton Public Library, Clinton, TN.

Clinch-Powell Regional Library Center, Clinton, TN.

Lake City Public Library, Lake City, TN.

Betty Anne Jolly Norris Community Library, Norris, TN.

Oak Ridge Public Library, Oak Ridge, TN.

Altamont Public Library, Altamont, TN.

Beersheba Springs Public Library, Beersheba Springs, TN.

Coalmont Public Library, Coalmont, TN.

Monteagle (May Justus Memorial Library), Monteagle, TN.

Palmer Public Library, Palmer, TN.

Tracy City Public Library, Tracy City, TN.

Sequatchie County Public Library, Dunlap, TN.

Jasper Public Library, Jasper, TN.

Beene-Pearson Public Library, South Pittsburg, TN.

Orena Humphreys Public Library, Whitwell, TN.

Bledsoe County Public Library, Pikeville, TN.

Barbara Reynolds Carr Memorial Library, Tazewell, TN.

Caryville Public Library, Caryville, TN.

Jacksboro Public Library, Jacksboro, TN.

Jellico Public Library, Jellico, TN.

LaFollette Public Library, LaFollette, TN.

Huntsville Public Library, Huntsville, TN.

Oneida Public Library, Oneida, TN.

Winfield Public Library, Winfield, TN.

Coalfield Public Library, Coalfield, TN.

Deer Lodge Public Library, Deer Lodge, TN.

Oakdale Public Library, Oakdale, TN.

Petros Public Library, Petros, TN.

Sunbright Public Library, Sunbright, TN.

Wartburg Public Library, Wartburg, TN.

Art Circle Public Library, Crossville, TN.

Fentress County Public Library, Jamestown, TN.

Virginia

Buchanan County Public Library, Grundy, VA.

Wise County Public Library, Wise, VA.

Russell County Public Library, Lebanon, VA.

Tazewell County Public Library, Tazewell, VA.

Scott County Public Library, Gate City, VA.

Lee County Public Library, Pennington Gap, VA.

West Virginia

Ansted Public Library, Ansted, WV.

Boone—Madison Public Library, Madison, WV.

Bradshaw Public Library , Davy, WV.

Clay Co. Public Library, Clay, WV.

Fort Gay Public Library, Fort Gay, WV.

Gilbert Public Library, Gilbert, WV.

Glasgow Public Library, Glasgow, WV.

Graigsville Public Library, Graigsville, WV.

Fayetteville Public Library, Fayetteville, WV.

Fayette County Public Libraries, Oak Hill, WV.

Hamlin—Lincoln Co., Hamlin WV.

Kanawha Co. Public, Charleston, WV.

Kermit Public Library, Kermit, WV.

Logan Area Public Library, Logan, WV.

Mingo County Public Library, Delbarton, WV.

McDowell County Public Library, Welch, WV.

Oceana Public Library, Oceana, WV.

Raleigh Public Library, Beckley, WV.

Sutton Public Library, Sutton, WV.

Wayne County Public Library, Kenova, WV.

Branch of Wayne County Public Library, Wayne, WV.

Whitesville Public Library, Whitesville, WV.

Dated: July 27, 2007.
Sterling Rideout,
Assistant Director, Program Support.

[FR Doc. E7-16628 Filed 8-23-07; 8:45 am]

BILLING CODE 4310-05-P